Title 3—

The President

Memorandum of May 5, 2006

Assignment of Function Relating to Granting of Authority for Issuance of Certain Directives

Memorandum for the Director of National Intelligence

By virtue of the authority vested in me by the Constitution and laws of the United States, including section 301 of title 3, United States Code, I hereby assign to you the function of the President under section 13(b)(3)(A) of the Securities Exchange Act of 1934, as amended (15 U.S.C. 78m(b)(3)(A)). In performing such function, you should consult the heads of departments and agencies, as appropriate.

You are authorized and directed to publish this memorandum in the Federal Register.

B

THE WHITE HOUSE,

Washington, May 5, 2006.

[FR Doc. 06-4538

Filed 5-11-06; 9:04 am]

Billing code 3910-A7-M